ENVIRONMENTAL PROTECTION AGENCY

[OPP-2003-0004; FRL-7603-9]

Agency Information Collection Activities; Submission to OMB for Review and Approval; Comment Request; Application for Experimental Use Permit (EUP) to Ship and Use a Pesticide for Experimental Purposes Only

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. This ICR is scheduled to expire on December 31, 2003. Under OMB regulations, the Agency may continue to conduct or sponsor the collection of information while this submission is pending at OMB. This ICR describes the nature of the information collection and its estimated burden and cost.

DATES: Additional comments may be submitted on or before January 29, 2004.

ADDRESSES: Submit your comments, referencing docket ID number OPP-2003-0004, to (1) EPA online using EDOCKET (our preferred method), by email to opp-docket@epa.gov, or by mail to: (1) Public Information and Records Integrity Branch, Office of Pesticide Programs, Environmental Protection Agency (7502C), 1200 Pennsylvania Ave., NW., Washington, DC 20460-0001 and (2) OMB at: Office of Information and Regulatory Affairs, Office of Management and Budget, Attention: Desk Officer for EPA, 725 17th Street, NW., Washington, DC 20503.

FOR FURTHER INFORMATION CONTACT: Nancy Vogel, Field and External Affairs Division, 7506C, Environmental Protection Agency, 1200 Pennsylvania Ave., NW., Washington, DC 20460; telephone number: (703) 305-6475; fax number: (703) 305-5884; e-mail address: vogel.nancy@epa.gov.

SUPPLEMENTARY INFORMATION: EPA has submitted the following ICR to OMB for review and approval according to the procedures prescribed in 5 CFR 1320.12. The Federal Register document, required under 5 CFR 1320.8(d), soliciting comments on this collection of information published on February 26, 2003 (68 FR 8887). EPA received no comments on this ICR during the 60-day comment period.

EPA has established a public docket for this ICR under Docket ID No. OPP-2003-0004, which is available for public viewing at the Public Information and Records Integrity Branch, Office of Pesticide Programs, Rm. 119, Crystal Mall #2, 1921 Jefferson Davis Hwy., Arlington, VA. This docket facility is open from 8:30 a.m. to 4 p.m., Monday through Friday, excluding legal holidays. The docket telephone number is (703) 305-5805. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: Application for Experimental Use Permit (EUP) to Ship and Use a Pesticide for Experimental Purposes Only.

Abstract: The Federal Insecticide, Fungicide, and Rodenticide Act (FIFRA) requires that before a pesticide product may be distributed or sold in the U.S., it must be registered by EPA. However, section 5 of FIFRA authorizes EPA to issue experimental use permits (EUPs) to allow companies to transfer, sell or distribute unregistered pesticide products labeled for experimental use for the purpose of gathering data necessary to support the application for registration. This information collection program is designed to provide EPA with data necessary to determine whether to issue an EUP under section 5 of FIFRA.

The information collected and reported under an EUP is a summary of that which is routinely submitted in connection with registration. The EUP allows for large scale field testing, if necessary in order to collect sufficient data to support registration. An EUP is not required if the person conducting the tests limits testing to laboratories or greenhouses; limited replicated field trials and other tests whose purpose is only to assess the pesticide's potential efficacy, toxicity or other properties, and does not expect to receive benefits in pest control.

The EUP applicant must submit information describing the who, what, where, when and how the experimental use permit will be used. Such information would include, but not limited to, the applicant's name and address, the proposed program, rate of applications, data (including identity of the chemical composition, toxicity, efficacy) and the proposed labeling for the product. This information from the applicant is necessary in order to grant and effectively monitor the EUP. A final report is submitted on the results of the experimental program which includes information such as: amount of the product applied; the crops or sites treated; any observed adverse effects; any adverse weather conditions which may have inhibited the program; the goals achieved; and the disposition of containers, unused pesticide material, and affected food/feed commodities.

In addition, applicants are required to use EPA Form 8570-17 (Application for an Experimental Use Permit to Ship and Use a Pesticide for Experimental Purposes Only), and EPA Form 8570-4 (Confidential Statement of Formula) for the EUP application.

The authority for this information collection is section 5 of FIFRA. Compliance regulations are contained in 40 CFR part 172. CBI submitted to EPA in response to this information collection is protected from disclosure under FIFRA section 10.

An agency may not conduct or sponsor, and a person is not required to respond to, a collection of information unless it displays a currently valid OMB control number. The OMB control numbers for EPA's regulations in 40 CFR are listed in 40 CFR part 9 and are identified on the form and/or instrument, if applicable.

Burden Statement: The annual public reporting and recordkeeping burden for this collection of information is estimated to average about 10 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Pesticide registrants who wish to obtain an EUP to ship and use a pesticide for experimental purposes only.

Estimated Number of Respondents: 75.

Frequency of Response: As needed.

Estimated Total Annual Hour Burden: 757 hours.

Estimated Total Annual Cost: $64,950.

Changes in the Estimates: There is no change in the total estimated burden currently identified in the OMB Inventory of Approved ICR Burdens.

Dated: December 12, 2003.
Doreen Sterling,
Acting Director, Collection Strategies Division.

[FR Doc. 03-32055 Filed 12-29-03; 8:45 am]

BILLING CODE 6560-50-P